DEPARTMENT OF COMMERCE

National Oceanic and Atmospheric Administration

50 CFR Part 679

[Docket No. 070706269-8586-01]

RIN 0648-AV71

Fisheries of the Exclusive Economic Zone Off Alaska; Individual Fishing Quota Program; Alaska Individual Fishing Quota On-line Services; Recordkeeping and Reporting

AGENCY: National Marine Fisheries Service (NMFS), National Oceanic and Atmospheric Administration (NOAA), Commerce.

ACTION: Final rule.

SUMMARY: NMFS issues a final rule to modify the Individual Fishing Quota (IFQ) Program for the fixed-gear commercial Pacific halibut fishery and sablefish fishery by revising regulations describing on-line access to IFQ account information specific to those fisheries. The action would improve the efficiency of the Pacific Halibut and Sablefish IFQ Program and is intended to promote the goals and objectives of Northern Pacific Halibut Act and the Magnuson-Stevens Fishery Conservation and Management Act.

DATES: Effective July 3, 2008.

ADDRESSES: Written comments regarding the burden-hour estimates or other aspects of the collection-of-information requirements contained in this final rule may be submitted to NMFS Alaska Region, P. O. Box 21668, Juneau, AK 99802 or the Alaska Region NMFS website at http://www.alaskafisheries.noaa.gov and by e-mail to David_Rostker@omb.eop.gov, or fax to 202-395-7285.

FOR FURTHER INFORMATION CONTACT: Patsy A. Bearden, 907-586-7008.

SUPPLEMENTARY INFORMATION: The groundfish fisheries in the exclusive economic zone (EEZ) off Alaska, which include sablefish, but not halibut, are managed under the Fishery Management Plan for Groundfish of the Bering Sea and Aleutian Islands Management Area and the Fishery Management Plan for Groundfish of the Gulf of Alaska (FMPs). The North Pacific Fishery Management Council (Council) prepared the FMPs under the authority of the Magnuson-Stevens Fishery Conservation and Management Act (Magnuson-Stevens Act), 16 U.S.C. 1801 et seq. Regulations implementing the FMPs appear at 50 CFR part 679. General regulations governing U.S. fisheries also appear at 50 CFR part 600.

Management of the Pacific halibut fisheries in and off Alaska is governed by an international agreement, the “Convention Between the United States of America and Canada for the Preservation of the Halibut Fishery of the Northern Pacific Ocean and Bering Sea,” which was signed at Ottawa, Canada, on March 2, 1953, and was amended by the “Protocol Amending the Convention,” signed at Washington, D.C., March 29, 1979. The Convention is implemented in the United States by the Northern Pacific Halibut Act of 1982 (Halibut Act).

The directed commercial Pacific halibut fishery in Alaska is managed under an Individual Fishing Quota (IFQ) Program, as is the fixed gear sablefish fishery. The IFQ Program is a limited-access management system. Both species are also a part of the annual apportionment under the Western Alaska Community Development Quota (CDQ) Program. These programs are codified at 50 CFR part 679.

Background

NMFS Alaska Region Restricted Access Management (RAM) Program allows persons active in the Halibut and Sablefish IFQ Program to access their IFQ accounts to obtain account and vessel balances, to get landing “ledger” reports, and to pay annual cost recovery fees. Persons active in the program include permit holders who actively fish and fish processors who are also known as Registered Buyers of halibut and sablefish.

In recent years, RAM increased on-line services for program participants. To enhance security and prevent unauthorized access to on-line accounts, RAM has shifted away from short personal identification numbers, such as “1234”, in combination with permit numbers or permit-linked passwords to more secure user identification (userID) and personal passwords. Administratively, this shift was fully completed for Registered Buyers in 2005, who must submit a variety of reports. However, the regulations at section 679.5(l)(7)(i)(C)(3) continued to require that Registered Buyers use a personal identification number to submit IFQ Buyer Reports. Buyer Reports contain information relevant to the IFQ cost recovery program.

This action revises regulations to allow persons to access their IFQ Program accounts with more secure userIDs and passwords. Specifically, this rule changes the requirements for electronically submitting an IFQ Buyer Report. Paragraph 679.5(l)(7)(i)(C)(3)(ii) is redesignated as § 679.5(l)(7)(i)(C)(3)(iii) and revised to read “Non-electronic submittal: Certification, including the printed name and signature of the individual submitting the IFQ Buyer Report on behalf of the Registered Buyer, and date of signature.” New § 679.5(l)(7)(i)(C)(3)(ii) is added to read “Electronic submittal: Certification, including the NMFS ID and password of the IFQ Registered Buyer”. In addition, a heading “IFQ retro-payments” is added to § 679.5(l)(7)(i)(C)(3)(i) for heading format consistency.

Classification

Pursuant to section 305(d) of the Magnuson-Stevens Act, NMFS has determined that this final rule is consistent with the FMPs and other provisions of the Magnuson-Stevens Act. NMFS has determined that this amendment is necessary for the conservation and management of the halibut fishery and is consistent with the Halibut Act and other applicable law.

This rule has been determined to be not significant for purposes of Executive Order 12866.

This rule contains a collection-of-information requirement subject to the Paperwork Reduction Act (PRA) and which has been approved by the Office of Management and Budget (OMB) under Control Number 0648-0398. Public reporting burden for the IFQ Registered Buyer Ex-vessel Volume and Value Report is estimated to average two hours per response, including the time for reviewing instructions, searching existing data sources, gathering and maintaining the data needed, and completing and reviewing the collection of information. Send comments regarding this burden estimate, or any other aspect of this data collection, including suggestions for reducing the burden, to NMFS (see ADDRESSES) and by e-mail to David_Rostker@omb.eop.gov, or fax to 202-395-7285.

Notwithstanding any other provision of the law, no person is required to respond to, nor shall any person be subject to a penalty for failure to comply with, a collection of information subject to the requirements of the PRA, unless that collection of information displays a currently valid OMB control number.

This action will not increase recordkeeping and reporting costs.

Pursuant to 5 U.S.C. 553(b)(B), the Assistant Administrator of Fisheries finds good cause to waive prior notice and opportunity for public comment. NOAA finds that prior notice and opportunity for public comment are unnecessary. The changes to the password instructions are minor changes that do not substantively change the regulatory requirements. Affected persons are presently providing passwords that this regulatory change will otherwise require. Prior notice and opportunity for public comment are not required for this rule by 5 U.S.C. 553, or any other law, so the analytical requirements of the Regulatory Flexibility Act, 5 U.S.C. 601 et. seq. are inapplicable. Because this action makes only non-substantive changes to part 679, this rule is not subject to the 30-day delay in effective date requirement of 5 U.S.C. 553(d).

List of Subjects in 50 CFR Part 679

Alaska, Fisheries, Recordkeeping and reporting requirements.

Dated: May 28, 2008.
Samuel D. Rauch III
Deputy Assistant Administrator for Regulatory Programs, National Marine Fisheries Service.

For the reasons set out in the preamble, 50 CFR part 679 is amended as follows:

PART 679—FISHERIES OF THE EXCLUSIVE ECONOMIC ZONE OFF ALASKA

1. The authority citation for part 679 continues to read as follows:

Authority: 16 U.S.C. 773 et seq., 1801 et seq., 3631 et seq.; Pub. L. 108-447.

2. In § 679.5, paragraph (l)(7)(i)(C)(3) is revised to read as follows:

§ 679.5 Recordkeeping and reporting (R&R).

(l) * * *

(7) * * *

(i) * * *

(C) * * *

(3) Value paid for price adjustments—(i) IFQ retro-payments. The monthly total U.S. dollar amount of any IFQ retro-payments (correlated by IFQ species, landing month(s), and month of payment) made in the current year to IFQ permit holders for landings made during the previous calendar year;

(ii) Electronic submittal. Certification, including the NMFS ID and password of the IFQ Registered Buyer; or

(iii) Non-electronic submittal. Certification, including the printed name and signature of the individual submitting the IFQ Buyer Report on behalf of the Registered Buyer, and date of signature.

[FR Doc. E8-12340 Filed 6-2-08; 8:45 am]

BILLING CODE 3510-22-S